DEPARTMENT OF THE TREASURY

Submission for OMB Review; Comment Request

June 5, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 14, 2003 to be assured of consideration.

Financial Crimes Enforcement Network (FinCEN)

OMB Number: 1506-0014.

Form Number: FinCEN 105 (Formerly Customs Form 4790).

Type of Review: Extension.

Title: Report of Financial Transportation of Currency or Monetary Instruments.

Description: FinCEN, and the Department of Homeland Security (DHS) and the DHS Bureaus are required under 31 U.S.C. 5316(a) to collect information regarding the transportation of monetary instruments of more than $10,000 in value into or out of the United States.

Respondents: Business or other for-profit, individuals or households, not-for-profit institutions.

Estimated Number of Respondents/Recordkeeping: 180,000.

Estimated Burden Hours Per Respondent/Recordkeeper: 11 minutes.

Frequency of Response: On occasion.

Estimated Total Reporting/Recordkeeping Burden: 33,000 hours.

Clearance Officer: Steve Rudzinski(703) 905-3845, Financial Crimes Enforcement Network, 2070 Chain Bridge Road, Suite 200, Vienna, VA 22182.

OMB Reviewer: Joseph F. Lackey, Jr., (202) 395-7316, Office of Management and Budget, Room 10235, New Executive Office Building, Washington, DC 20503.

Lois K. Holland,
Departmental Reports Management Officer.

BILLING CODE 4810-02-P

[FR Doc. 03-14903 Filed 6-12-03; 8:45 am]

BILLING CODE 4810-02-C